DEPARTMENT OF THE INTERIOR

Fish and Wildlife Service

Yukon Flats National Wildlife Refuge, Alaska

AGENCY: Fish and Wildlife Service, Interior.

ACTION: Notice of availability of the draft Environmental Impact Statement (EIS) for a Proposed Land Exchange in Yukon Flats National Wildlife Refuge, Alaska, and announcement of Alaska National Interest Lands Conservation Act subsistence hearings.

SUMMARY: We, the Fish and Wildlife Service, announce that the Draft Environmental Impact Statement (DEIS) for a Proposed Land Exchange in the Yukon Flats National Wildlife Refuge, Alaska, is available for public comment. We prepared this DEIS pursuant to the National Environmental Policy Act of 1969 (NEPA) and its implementing regulations. The Service is furnishing this notice to advise the public and other agencies of the availability of the DEIS and to solicit comments. We have amended our original schedule to provide 60 days for public comment, rather than the minimum 45 days required by regulation. This extension provides the latest date we can accept public comment and still meet our obligation to complete the EIS within the fiscal year. We believe that 60 days is adequate to meet the needs for public review. Public hearings will be held in February and March in the cities of Anchorage and Fairbanks, and the communities of Arctic Village, Beaver, Birch Creek, Central, Chalkyitsik, Circle, Fort Yukon, Stevens Village, and Venetie. In conjunction with the public hearings, we will hold subsistence hearings under Section 810 of the Alaska National Interest Lands Conservation Act (ANILCA) in the affected communities. The schedule for the hearings will be highly dependent on local weather conditions and other community activities and commitments. Dates, times, and locations will be announced locally at least two weeks prior to each hearing.

DATES: We must receive your comments on or before March 25, 2008.

ADDRESSES: Written comments may be submitted on-line at http://yukonflatseis.ensr.com or mailed to: Yukon Flats EIS Project Office, c/o ENSR, 1835 S. Bragaw Street, Suite 490, Anchorage, AK 99508-3438. To request a paper copy or compact disk of the DEIS, contact: Cyndie Wolfe, Project Coordinator, U.S. Fish and Wildlife Service, 1011 East Tudor Road, MS-231, Anchorage, AK 99503, or yukonflats_noi@fws.gov or at 907-786-3463. You may view or download a copy of the DEIS at: http://yukonflatseis.ensr.com. Copies of the DEIS may be viewed at the Yukon Flats National Wildlife Refuge Office in Fairbanks, Alaska and at the U.S. Fish and Wildlife Service Regional Office in Anchorage, Alaska.

FOR FURTHER INFORMATION CONTACT: Cyndie Wolfe at the above address.

SUPPLEMENTARY INFORMATION: The Yukon Flats Refuge is located in eastern interior Alaska. The exterior boundaries encompass about 11.1 million acres, including 2.5 million acres owned or selected by Native corporations established under the Alaska Native Claims Settlement Act of 1971 (ANCSA; 43 U.S.C. 1601, et seq.). The Refuge includes the Yukon Flats, a vast wetland basin bisected by the Yukon River. The Refuge supports the highest density of breeding ducks in Alaska, and includes one of the greatest waterfowl breeding areas in North America.

Doyon, Limited (Doyon) is an Alaska Native Regional Corporation established under ANCSA. Under the authority of ANCSA, Congress granted to Doyon land entitlements within an area that later became the Yukon Flats National Wildlife Refuge (Refuge) in 1980. Doyon has ownership interests in nearly 2 million acres within the boundaries of the Refuge, including the surface and subsurface estates of 1.15 million acres of land, and the subsurface estate of another 782,000 acres. An additional 56,500 acres remain to be allocated by Doyon to Village Corporations located in the Refuge; Doyon would own the subsurface to these lands. Doyon is owned by over 14,000 Alaska Natives (Native Americans) with ties to a large portion of interior Alaska. Approximately 1,300 people reside in nine communities in or near the Yukon Flats Refuge. Most residents are Alaska Natives and many are Doyon shareholders.

Negotiators for Doyon and the Fish and Wildlife Service, Alaska Region, have agreed in principle to exchange certain lands within the Refuge. Under the agreement, the United States (U.S.) would convey to Doyon the title to Refuge lands that may hold developable oil and gas resources. In exchange, Doyon would convey to the U.S. certain lands owned by Doyon within the Refuge boundary. These lands include wetlands previously identified by the Service as priority fish and wildlife habitats. In addition, both parties have agreed to exchange nearly six townships (132,000 acres each) to consolidate ownerships and facilitate land management within the Refuge. All lands acquired by the U.S. would be managed as part of the Yukon Flats Refuge. Activities on Doyon-owned lands are not subject to regulation by the Service.

At the request of Doyon and the public, the Service has prepared a Draft Environmental Impact Statement (DEIS) to evaluate the effects of the exchange, in accordance with procedures for implementing the National Environmental Policy Act of 1969 (NEPA; 42 U.S.C. 4321-4370d).

The DEIS evaluates a range of reasonable alternatives, including the following four alternatives:

Proposed Action: Equal-value land exchange (based on fair market appraisals) as described in the Agreement in Principle (for the full text of the Agreement, see Appendix A of the DEIS or the project Web site at http://yukonflatseis.ensr.com/yukon_flats/documents_other.htm). Under Phase I of this agreement, Doyon would receive about 110,000 acres of Refuge lands with oil and gas potential and 97,000 acres of oil and gas interests (no surface occupancy). In exchange, the U.S. would receive from Doyon a minimum of 150,000 acres with lowland fish and wildlife habitats. The actual amount of land received from Doyon would be more than 150,000 acres if appraisals (due in late spring 2008) indicate more lands are needed to equal the value of the Service lands. In addition, Doyon would reallocate 56,500 acres of its remaining land entitlement under Section 12(b) of ANCSA to areas outside the Refuge. Both parties would pursue additional township-level exchanges to consolidate ownerships. If Doyon were to produce oil or gas on lands acquired in the exchange, under Phase II of the Agreement the Service would receive a perpetual production payment equal to 1.25% of the value at the wellhead to be used to: (1) Purchase from Doyon up to 120,000 acres of additional lands or interests therein, within the Refuge, (2) purchase land or interests therein, from other willing sellers in other national wildlife refuges in Alaska, or to (3) construct facilities in Alaska Refuges.

Alternative 1: Land exchange with non-development easements. The land exchange would proceed as described in Phase I under the Proposed Action above. In addition, at the time of the initial exchange, Doyon would donate to the U.S. non-development easements that preclude development on up to 120,000 acres of Doyon-owned lands. Rather than selling these lands to the U.S. in Phase II (as provided for in the Proposed Action), Doyon would donate the non-development easements whether or not oil and gas is produced from the exchange lands. If Doyon were to produce oil or gas on lands received in the exchange, the U.S. would receive a perpetual production payment of 0.25% of the resource value at the wellhead rather than 1.25% as provided under the Proposed Action.

Alternative 2: Land exchange excluding White-Crazy Mountains. The Yukon Flats Comprehensive Conservation Plan and Environmental Impact Statement recommended Wilderness designation for a 658,000 acre area in the White-Crazy Mountains. Under the Proposed Action and Alternative 1, Doyon would receive title to about 26,500 acres of this land; under Alternative 2, these 26,500 acres would be excluded from the exchange. In Phase I of the exchange, Doyon would receive title to approximately 83,500 acres of Refuge lands (surface and subsurface) and 105,000 acres of oil and gas interests. About 21,000 acres of the latter would be within the area proposed for Wilderness designation. However, only off-site drilling would be allowed; there would be no surface occupancy by Doyon. From Doyon, the U.S. would receive title to a minimum of 115,000 acres, but the actual amount could be adjusted upward to equalize values. The land consolidation exchange and 12(b) reallocation provisions of Phase I would proceed as detailed in the Agreement in Principle. Phase II of the exchange would proceed as detailed in the Agreement, however Doyon's commitment to sell additional lands to the U.S. would be reduced from about 120,000 acres to about 81,000 acres. Potential access rights-of-way would cross the proposed White-Crazy Mountains Wilderness Area. If Doyon were to produce oil or gas on the lands received in the exchange, the Service would receive a perpetual production payment equal to 1.25% of the value at the wellhead.

Alternative 3: No action (no exchange). The U.S. would not enter into a land exchange with Doyon.

Doyon currently owns about 1.055 million acres of land with oil and gas potential inside the Refuge. Therefore, any alternative, including the “no action” alternative, could result in oil and/or gas development on Doyon-owned lands. If Doyon develops any of its lands, including those received through exchange, the resulting infrastructure could facilitate development on other private lands in the Refuge. The impacts of development on Doyon's current land holdings, with or without a land exchange, are analyzed as Cumulative Effects in the DEIS. In most cases, access to Doyon lands would cross federally-owned lands. In these cases, Doyon would be required to apply for a right-of-way permit under Title XI of ANILCA. At that time, a separate NEPA process would evaluate various transportation/pipeline corridor alternatives as well as the proposed oil field development.

During scoping, the Service identified a number of issues that are analyzed in detail in the DEIS. Most of the public scoping comments focused on the potential impacts of oil and gas development in the Yukon Flats rather than the land exchange itself. Therefore much of the DEIS focuses on development impacts. Specifically, the DEIS addresses how the proposed alternatives could affect fish and wildlife; wetlands and aquatic habitats; the physical environment (water quality and quantity, hydrology, air quality, climate); subsistence; cultural/archaeological resources; socioeconomics; refuge purposes; biological integrity, diversity and environmental health; land use (including special designation areas, recreation, visual resources) and environmental justice (including human health).

Section 810 of ANILCA requires the Service to evaluate the effects of the alternatives on subsistence activities and to hold public hearings if any alternative may significantly restrict subsistence activities. The Service analysis finds that the cumulative effects, considered in conjunction with the alternatives, meet the “may significantly restrict” threshold. Therefore, the Service will hold subsistence hearings in conjunction with the DEIS public hearings.

Public availability of comments: Before including your address, phone number, e-mail address, or other personal identifying information in your comment, you should be aware that your entire comment-including your personal identifying information-may be made publicly available at any time. While you can ask us in your comment to withhold your personal identifying information from public review, we cannot guarantee that we will be able to do so.

Dated: January 17, 2008.
Thomas O. Melius,
Regional Director, U.S. Fish and Wildlife Service, Anchorage, Alaska.

[FR Doc. E8-1277 Filed 1-24-08; 8:45 am]

BILLING CODE 4310-55-P